AGENCY FOR INTERNATIONAL DEVELOPMENT

48 CFR Chapter 7

[Regulation Identifier Number (RIN) 0412-AA59]

Key Subcontractor Consent Requirements

AGENCY: United States Agency for International Development.

ACTION: Advanced notice of proposed rulemaking.

SUMMARY: The United States Agency for International Development is proposing to amend 48 CFR Chapter 7, the USAID Acquisition Regulation (AIDAR), by adding additional authority to monitor prime contractor compliance with subcontracting plans. The intent of this amendment is to provide the contracting officer a means for monitoring and assuring that subcontractors who were named in the offeror's proposal and whose contributions were evaluated as part of the proposal evaluation are in fact used in the contract.

DATES: Submit comments on or before March 27, 2007.

ADDRESSES: Submit comments, identified by title of the Proposed Action, and RIN number by any of the following methods:

• Federal eRulemaking Portal: http://www.regulations.gov. Follow the instructions for submitting comments.

• Fax: (202) 216-3395.

• Mail: USAID, Office of Acquisition and Assistance, Policy Division, Room 7.9-18, 1300 Pennsylvania Avenue, NW., Washington, DC 20523-0001.

Instructions: All submissions must include the title of the proposed action, and Regulatory Information Number (RIN) for this rulemaking. Please include your name, title, organization, postal address, telephone number, and e-mail address in the text of the message.

FOR FURTHER INFORMATION CONTACT: Diane Howard, 202-712-0206 Telephone: (202) 712-0206, E-mail: dhoward@usaid.gov.

SUPPLEMENTARY INFORMATION: The Agency envisions adding an authority to the AIDAR similar to that set out in the subcontracting consent requirements in the Federal Acquisition Regulation. Prime contractors will be required to obtain prior consent from the contracting officer in order to replace a named key subcontractor with another organization. Consent will also be required in the case where the prime contractor plans to carry out itself any contract requirements that were intended to be carried out by a named key subcontractor. The Agency is currently piloting this procedure in selected contracts.

Our purpose in publishing this notice is to collect comments and opinions from the public prior to drafting regulatory guidance on this matter. In particular, we seek public comment on the challenges associated with enforcing such a modification. We are interested in assessments of the practicality of administering such a requirement and recommendations to assist the Agency in developing authority, guidelines, and standards to improve mission performance. USAID will issue a notice of proposed rulemaking following a review of comments received and review of pilot contracts.

Public Participation: Because security screening precautions have slowed the delivery and dependability of surface mail to USAID/Washington, USAID recommends sending all comments to the Federal eRulemaking Portal or fax number listed above (all comments must be in writing to be reviewed). You may submit comments by electronic mail avoiding the use of any special characters and any form of encryption.

All comments will be made available for public review without change, including any personal information provided, from 3 days after receipt to finalization of action at http://www.Regulations.gov.

Michael F. Walsh,
Procurement Executive.

[FR Doc. E7-1255 Filed 1-25-07; 8:45 am]

BILLING CODE 6116-01-P